DEPARTMENT OF THE INTERIOR

National Park Service

Ellis Island Development Concept Plan, Final Environmental Impact Statement, Statue of Liberty National Monument and Ellis Island, New York and New Jersey

AGENCY: National Park Service, Department of the Interior.

ACTION: Notice of Availability of a Record of Decision on the Final Environmental Impact Statement for Ellis Island Development Concept Plan, Statue of Liberty National Monument and Ellis Island.

SUMMARY: Pursuant to the National Environmental Policy Act of 1969, 42 U.S.C. 4332(2)(C), the National Park Service announces the availability of the Record of Decision for the Final Environmental Impact Statement for the Ellis Island Development Concept Plan, Statue of Liberty National Monument and Ellis Island, New York and New Jersey. On May 14, 2007, the Director, Northeast Region approved the Record of Decision for this undertaking. As soon as practicable, the National Park Service will begin to implement the selected Alternative (i.e., the preferred alternative in the FEIS issued on April 6, 2007). The National Park Service will work with its nonprofit partner for the project, Save Ellis Island, Inc to develop the Ellis Island Institute as the primary adaptive reuse of the Island's remaining abandoned buildings. The Institute will provide cultural, interpretive, and educational programs and activities related to the park's historic themes. An associated small conference facility and overnight accommodations will be developed, financed and managed by a professional hospitality business partner working with the nonprofit partner. The facility would host meetings, retreats, and workshops that would primarily focus upon issues such as immigration, world migration, public health, culture and ethnic diversity. In accordance with the National Park Service's Partnership Construction Process, additional market analysis and feasibility studies will be completed to test and confirm the economic and programmatic viability of the project. The primary purpose of this undertaking, having evaluated the full range of foreseeable environmental consequences of three (3) alternative management strategies presented in the FEIS, is to rehabilitate and adaptively reuse 30 deteriorating buildings on Ellis Island, and provide limited vehicular service and emergency access, while preserving cultural resource values and enhancing visitor appreciation of the immigration function and history pertaining to Ellis Island.

The Record of Decision includes a statement of the decision made, synopses of other alternatives considered, the basis for the decision, a finding on impairment of park resources and values, a listing of measures to minimize environmental harm, and an overview of public involvement in the decision-making process.

FOR FURTHER INFORMATION CONTACT: Superintendent, Statue of Liberty National Monument and Ellis Island, Ellis Island Receiving Office, Jersey City, NJ 07305. (212) 366-3206 (Ext. 100), Cynthia_garrett@nps.gov.

SUPPLEMENTARY INFORMATION: Copies of the Record of Decision may be obtained from the contact listed above or online at http://www.nps.gov/elis/.

Dated: May 14, 2007.
Linda Canzanelli,
Acting Regional Director, Northeast Region, National Park Service.

[FR Doc. 07-3739 Filed 7-31-07; 8:45 am]

BILLING CODE 4310-GE-M